FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Federal Reserve Bank indicated or the offices of the Board of Governors, Ann E. Misback, Secretary of the Board, 20th and Constitution Avenue NW, Washington, DC 20551-0001, not later than October 18, 2019.

A. Federal Reserve Bank of Chicago (Colette A. Fried, Assistant Vice President) 230 South LaSalle Street, Chicago, Illinois 60690-1414:

1. Eric P. Stone; S. Adam Stone; and the Stone Revocable Trust dated December 8, 1987, Peter E. Stone and Barbara E. Stone as co-trustees, all of Fond du Lac, Wisconsin; to be approved as members acting in concert with the Stone Family Control Group, to retain voting shares of NEB Corporation, parent holding company of National Exchange Bank & Trust, both of Fond du Lac, Wisconsin.

Board of Governors of the Federal Reserve System, September 27, 2019.
Yao-Chin Chao,
Assistant Secretary of the Board.

[FR Doc. 2019-21453 Filed 10-1-19; 8:45 am]

BILLING CODE P